NUCLEAR REGULATORY COMMISSION

[Docket No. 50-608; NRC-2013-0053]

SHINE Medical Technologies, Inc.

AGENCY: Nuclear Regulatory Commission.

ACTION: Notice of receipt and availability.

SUMMARY: The U.S. Nuclear Regulatory Commission (NRC) staff acknowledges receipt of the second and final part of a two-part application for a construction permit, submitted by SHINE Medical Technologies, Inc. (SHINE).

ADDRESSES: Please refer to Docket ID NRC-2013-0053 when contacting the NRC about the availability of information regarding this document. You may access publicly-available information related to this action by the following methods:

• Federal Rulemaking Web site: Go to http://www.regulations.gov and search for Docket ID NRC-2013-0053. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced. The application is available in ADAMS under Accession No. ML13172A324.

• NRC's PDR: You may examine and purchase copies of public documents at the NRC's PDR, Room O1-F21, One White Flint North, 11555 Rockville Pike, Rockville, Maryland 20852.

FOR FURTHER INFORMATION CONTACT: Steven Lynch, Office of Nuclear Reactor Regulation, U.S. Nuclear Regulatory Commission, Washington, DC, 20555-0001; telephone: 301-415-1524; email: Steven.Lynch@nrc.gov.

SUPPLEMENTARY INFORMATION: By letter dated May 31, 2013, SHINE filed with the NRC, pursuant to Section 103 of the Atomic Energy Act and part 50 of Title 10 of the Code of Federal Regulations (10 CFR), the second and final portion of a two-part application for a construction permit for a medical radioisotope production facility in Janesville, Wisconsin (SMT-2013-023, ADAMS Accession No. ML13172A361).

An exemption from certain requirements of 10 CFR 2.101(a)(5), granted by the Commission on March 20, 2013 (ADAMS Accession No. ML13072B195), in response to a letter from SHINE dated February 18, 2013 (ADAMS Accession No. ML13051A007), allowed SHINE to submit its construction permit application in two parts. Specifically, the exemption allowed SHINE to submit a portion of its application for a construction permit up to six months prior to the remainder of the application regardless of whether or not an environmental impact statement or a supplement to an environmental impact statement is prepared during the review of its application. SHINE submitted part one of its construction permit application by letter dated March 26, 2013 (ADAMS Accession No. ML13088A192). A notice of receipt and availability of part one of the construction permit application was previously published in the Federal Register on May 20, 2013 (78 FR 29390). The first part of SHINE's construction permit application contained the following information:

• The description and safety assessment of the site required by 10 CFR 50.34(a)(1)

• The environmental report required by 10 CFR 50.30(f)

• The filing fee information required by 10 CFR 50.30(e) and 10 CFR 170.21

• The general information required by 10 CFR 50.33

• The agreement limiting access to classified information required by 10 CFR 50.37

The NRC staff published in the Federal Register on July 1, 2013 (78 FR 39342), its determination that part one of SHINE's construction permit application is acceptable for docketing.

Part two of SHINE's application for a construction permit contains the remainder of the preliminary safety analysis report, as required by 10 CFR 50.34(a).

Subsequent Federal Register notices will address the acceptability of this second portion of the tendered construction permit application for docketing and detail provisions for public participation in the construction permit application review process.

Dated at Rockville, Maryland, this 16th day of August, 2013.
For the Nuclear Regulatory Commission.
Alexander Adams, Jr.,
Chief, Research and Test Reactors Licensing Branch, Division of Policy and Rulemaking, Office of Nuclear Reactor Regulation.

[FR Doc. 2013-20622 Filed 8-22-13; 8:45 am]

BILLING CODE 7590-01-P